DEPARTMENT OF HOMELAND SECURITY

Coast Guard

33 CFR Part 165

[Docket No. USCG-2010-0995]

RIN 1625-AA00

Safety Zone; Beaufort River/Atlantic Intracoastal Waterway, Beaufort, SC

AGENCY: Coast Guard, DHS.

ACTION: Temporary final rule.

SUMMARY: The Coast Guard is establishing a temporary safety zone on the Beaufort River portion of the Atlantic Intracoastal Waterway, South Carolina during construction and expansion of the J.E. McTeer Bridge, also referred to as the S.C. 802 Bridge. This regulation is necessary to protect life and property on the navigable waters of the Beaufort River during construction and expansion of the J.E. McTeer Bridge. Persons and vessels will be prohibited from entering, transiting through, anchoring in, or remaining within the safety zone unless authorized by the Captain of the Port Charleston or a designated representative.

DATES: This rule is effective from 9 a.m. on January 31, 2011 through 5 p.m. on February 4, 2011. This rule will be enforced daily from 9 a.m. until 12 p.m. and from 2 p.m. until 5 p.m. on January 31, 2011 through February 4, 2011.

ADDRESSES: Comments and material received from the public, as well as documents mentioned in this preamble as being available in the docket, are part of docket USCG-2010-0995 and are available online by going to http://www.regulations.gov, inserting USCG-2010-0995 in the “Keyword” box, and then clicking “Search.” This material is also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this temporary rule, call or e-mail Lieutenant Julie Blanchfield, Sector Charleston Office of Waterways Management, Coast Guard; telephone 843-740-3184, e-mail Julie.E.Blanchfield@uscg.mil. If you have questions on viewing the docket, call Renee V. Wright, Program Manager, Docket Operations, telephone 202-366-9826.

SUPPLEMENTARY INFORMATION:

Regulatory Information

On Friday, November 12, 2010, we published a notice of proposed rulemaking (NPRM) entitled Safety Zone; Beaufort River/Atlantic Intracoastal Waterway, Beaufort, South Carolina in the Federal Register (75 FR 69371). We received two comments on the proposed rule. No public meeting was requested, and none was held.

Under 5 U.S.C. 553(d)(3), the Coast Guard finds that good cause exists for making this rule effective less than 30 days after publication in the Federal Register. The Coast Guard did not receive information regarding the need for a change in the effective date of the rule with sufficient time to publish the rule at least 30 days prior to the effective date.

Background and Purpose

The construction and expansion of the J.E. McTeer Bridge will create safety hazards within the main channel of the Beaufort River in the vicinity of the J.E. McTeer Bridge due to the presence of construction equipment and the nature of the construction project. Because of the safety hazards associated with the construction of the bridge and related activities, the Coast Guard is establishing a temporary safety zone to protect life and property on the waters of the Atlantic Intracoastal Waterway/Beaufort River in the vicinity of the J.E. McTeer Bridge. The safety zone will be enforced daily from 9 a.m. until 12 p.m. and from 2 p.m. until 5 p.m. on January 31, 2011 through February 4, 2011.

Discussion of Comments and Changes

We received two comments regarding the proposed rule. The first comment was regarding the reference to the Lady's Island Marina in the Small Entities section of the NPRM. The reference in the NPRM was incorrect. The marina located adjacent to the J.E. McTeer Bridge is the Port Royal Landing Marina, not the Lady's Island Marina. The Coast Guard has corrected the reference in the Small Entities section of this rule. The second comment was regarding the possible adverse effect the safety zone would have on vessel traffic on the Intracoastal Waterway and, therefore, the number of vessels visiting the Port Royal Landing Marina. The safety zone will encompass only the main navigational channel and the side of the Beaufort River where the construction equipment is staged. The construction equipment is staged on the opposite side of the Beaufort River from the Port Royal Landing Marina. During the enforcement period, vessels may still transit the waterway under a different span of the J.E. McTeer Bridge. Additionally, the safety zone will only be enforced six hours each day. Therefore, vessels may still use the main navigational channel of the Beaufort River before, during, and after the enforcement periods.

The effective date of the rule has been changed from the NPRM. The NPRM stated that the effective date was anticipated to be from January 24, 2011 through January 28, 2011. The effective date of the rule is now 9 a.m. on January 31, 2011 through 5 p.m. on February 4, 2011.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

We expect the economic impact of this rule to be so minimal that a full regulatory evaluation is unnecessary. This rule may have some impact on the public, but these potential impacts will be minimal for the following reasons: (1) Persons and vessels will be prohibited from entering, transiting through, anchoring in, or remaining within the safety zone for a total of six hours each day for five consecutive days; (2) although persons and vessels will not be able to enter, transit through, anchor in, or remain within the safety zone without authorization from the Captain of the Port Charleston or a designated representative, they may operate in the surrounding area during the effective period; (3) vessels may still enter, transit through, anchor in, or remain within the safety zone if authorized by the Captain of the Port Charleston or a designated representative; and (4) advance notification will be made to the local maritime community via broadcast notice to mariners and marine safety information bulletins.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: (1) The owners or operators of vessels intending to enter, transit through, anchor in, or remain within that portion of the Beaufort River encompassed within the safety zone; and (2) the owner and operator of the Port Royal Landing Marina, which is located adjacent to the J.E. McTeer Bridge.

This safety zone will not have a significant economic impact on a substantial number of small entities for the following reasons: (1) Persons and vessels will be prohibited from entering, transiting through, anchoring in, or remaining within the safety zone for a total of six hours each day for five consecutive days; (2) although persons and vessels will not be able to enter, transit through, anchor in, or remain within the safety zone without authorization from the Captain of the Port Charleston or a designated representative, they may operate in the surrounding area during the effective period; (3) vessels may still enter, transit through, anchor in, or remain within the safety zone if authorized by the Captain of the Port Charleston or a designated representative; (4) vessels may access the Port Royal Landing Marina during the safety zone enforcement period by transiting around the safety zone under another span of the J.E. McTeer Bridge; and (5) advance notification will be made to the local maritime community via broadcast notice to mariners and marine safety information bulletins.

Assistance for Small Entities

Under section 213(a) of the Small Business Regulatory Enforcement Fairness Act of 1996 (Pub. L. 104-121), in the NPRM we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded this action is one of a category of actions which do not individually or cumulatively have a significant effect on the human environment. This rule is categorically excluded, under figure 2-1, paragraph (34)(g), of the Instruction. This rule involves establishing a temporary safety zone to protect life and property on the navigable waters on the Beaufort River during construction and expansion of the J.E. McTeer Bridge. An environmental analysis checklist and a categorical exclusion determination are available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701, 3306, 3703; 50 U.S.C. 191, 195; 33 CFR 1.05-1, 6.04-1, 6.04-6, 160.5; Pub. L. 107-295, 116 Stat. 2064; Department of Homeland Security Delegation No. 0170.1.

2. Add a temporary § 33 CFR 165.T07-0995 to read as follows:

§ 165.T07-0995 Safety Zone; Beaufort River/Atlantic Intracoastal Waterway, Beaufort, SC.

(a) Regulated Area. The following regulated area is a safety zone: all waters of the Beaufort River in Beaufort, South Carolina encompassed within an imaginary line connecting the following points: starting at Point 1 in position 32°23′44.92″ N, 80°40′31.43″ W; thence south to Point 2 in position 32°23′30.92″ N, 80°40′30.75″ W; thence east to Point 3 in position 32°23′30.15″ N, 80°40′12.93″ W; thence north to Point 4 in position 32°23′44.22″ N, 80°40′18.68″ W; thence west to origin. All coordinates are North American Datum 1983.

(b) Definition. The term “designated representative” means Coast Guard Patrol Commanders, including Coast Guard coxswains, petty officers, and other officers operating Coast Guard vessels, and federal, state, and local officers designated by or assisting the Captain of the Port Charleston in the enforcement of the regulated area.

(c) Regulations.

(1) All persons and vessels are prohibited from entering, transiting through, anchoring in, or remaining within the regulated area unless authorized by the Captain of the Port Charleston or a designated representative.

(2) Persons and vessels desiring to enter, transit through, anchor in, or remain within the regulated area may contact the Captain of the Port Charleston by telephone at 843-740-7050, or a designated representative via VHF radio on channel 16 to seek authorization. If authorization to enter, transit through, anchor in, or remain within the regulated area is granted by the Captain of the Port Charleston or a designated representative, all persons and vessels receiving such permission must comply with the instructions of the Captain of the Port Charleston or a designated representative.

(3) The Coast Guard will provide notice of the regulated area through advanced notice via broadcast notice to mariners, marine safety information bulletins, and by on-scene designated representatives.

(d) Effective Date and Enforcement Periods. The rule is effective from 9 a.m. on January 31, 2011 through 5 p.m. on February 4, 2011. The rule will be enforced daily from 9 a.m. until 12 p.m. and from 2 p.m. until 5 p.m. on January 31, 2011 through February 4, 2011.

Dated: January 21, 2011.
Michael F. White, Jr.,
Captain, U.S. Coast Guard, Captain of the Port Charleston.

[FR Doc. 2011-1980 Filed 1-28-11; 8:45 am]

BILLING CODE 9110-04-P